DEPARTMENT OF THE INTERIOR

Fish and Wildlife Service

[FWS-R8-ES-2020-N015; FXES11130800000-201-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before February 27, 2020.

ADDRESSES:

Document availability and comment submission: Submit requests for copies of the applications and related documents and submit any comments by one of the following methods. All requests and comments should specify the applicant name(s) and application number(s) (e.g., TEXXXXXX).

• Email: permitsr8es@fws.gov.

• U.S. Mail: Daniel Marquez, Endangered Species Program Manager, U.S. Fish and Wildlife Service, 2800 Cottage Way, Room W-2606, Sacramento, CA 95825.

FOR FURTHER INFORMATION CONTACT: Daniel Marquez, via phone at 760-431-9440, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
TE-06145B | Alicia Cooper Hill, San Diego, California | • Conservancy fairy shrimp (Branchinecta conservatio) | CA | Survey, capture, handle, release, and collect vouchers | Amend.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
TE-097516 | Thomas Ryan, Monrovia, California | • California least tern (Sterna antillarum browni) | CA | Predation prevention by installing nest exclosures | Amend.
TE-58452B | Darren Ward, Arcata, California | • Tidewater goby (Eucyclogobius newberryi) | CA | Capture, handle, and release | Renew.
TE-30659A | Creekside Center for Earth Observation, Menlo Park, California | • Mission blue butterfly (Icaricia icarioides missionensis) | CA | Capture, handle, translocate, perform habitat management, and release | Renew and amend.
TE-63314D | Megan Lahti, Reno, Nevada | • Sierra Nevada Yellow-legged Frog (Rana sierrae) | CA | Capture, handle, and release | New.
TE-63313D | Tiffany Alvarez, Riverside, California | • Southwestern willow flycatcher (Empidonax traillii extimus) | CA | Play taped vocalizations | New.
TE-815537 | Karen Swaim, Livermore, California | • Conservancy fairy shrimp (Branchinecta conservatio) | CA | Survey, capture, handle, release, collect vouchers, swab, and collect genetic tissue samples | Amend.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
|  | • California tiger salamander (Santa Barbara County and Sonoma County Distinct Population Segments (DPSs)) (Ambystoma californiense)
TE-142435 | Debra Shier, Topanga, California | • Giant kangaroo rat (Dipodomys ingens) | CA | Capture, handle, mark, release; conduct behavior studies; track; collect genetic samples; transport; hold in captivity; captive breed; and captive rear | Renew.
|  | • Stephens' kangaroo rat (Dipodomys stephensi (incl. D. cascus))
|  | • San Bernardino Merriam's kangaroo rat (Dipodomys merriami parvus)
|  | • Giant kangaroo rat (Dipodomys ingens)
TE-117947 | Kevin Clark, San Diego, California | • Southwestern willow flycatcher (Empidonax traillii extimus) | CA | Play taped vocalizations, monitor nests, capture, handle, and band | Amend.
|  | • Least Bell's vireo (Vireo bellii pusillus)
TE-96514A | Jonathan Aguayo, Buena Park, California | • Southwestern willow flycatcher (Empidonax traillii extimus) | CA | Play taped vocalizations | Amend.
TE-73946B | Austin Parker, Long Beach, California | • El Segundo blue butterfly (Euphilotes battoides allyni) | CA | Pursue | Renew and amend.
TE-50899B | Nicholas Bonzey, Sacramento, California | • Conservancy fairy shrimp (Branchinecta conservatio) | CA | Survey, capture, handle, release, and collect vouchers | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
TE-829554 | Barbara Kus, San Diego, California | • Southwestern willow flycatcher (Empidonax traillii extimus) | CA | Play taped vocalizations, monitor nests, capture, collect genetic samples, handle, and band | Amend.
|  | • Least Bell's vireo (Vireo bellii pusillus)
TE-64455D | Marshall Paymard, Foothill Ranch, California | • Quino checkerspot butterfly (Euphydryas editha quino) | CA | Pursue | New.
TE-039466 | USGS, Idaho Cooperative Fish and Wildlife Research Unit, Moscow, Idaho | • Light-footed clapper rail (Rallus longirostris levipes) | CA | Survey, capture, handle, band, attach satellite transmitters, collect feathers, and collect blood | Amend.
TE-787716 | Scott Tremor, San Diego, California | • Stephens' kangaroo rat (Dipodomys stephensi (incl. D. cascus)) | CA | Capture, handle, and release | Renew.
|  | • San Bernardino Merriam's kangaroo rat (Dipodomys merriami parvus)
|  | • Pacific pocket mouse (Perognathus longimembris pacificus)
TE-066621 | U.S. Navy, Point Mugu, California | • California least tern (Sterna antillarum browni) | CA | Survey, monitor nests, protect nests, capture, handle, band, collect seeds | Renew.
|  | • Least Bell's vireo (Vireo bellii pusillus)
|  | • Light-footed clapper rail (Rallus longirostris levipes)
|  | • Salt marsh bird's-beak (Cordylanthus maritimus ssp. maritimus)

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Chief of Ecological Services, Pacific Southwest Region, Sacramento, California.

[FR Doc. 2020-01407 Filed 1-27-20; 8:45 am]

BILLING CODE 4333-15-P